SECURITIES AND EXCHANGE COMMISSION

Submission for OMB Review; Comment Request

Upon Written Request; Copies Available From: Securities and Exchange Commission, Office of Filings and Information Services, Washington, DC 20549.

Extension:

Rule 12g3-2, OMB Control No. 3235-0119, SEC File No. 270-104; Rules 7a-15 thru 7a-37, OMB Control No. 3235-0132, SEC File No. 270-115; Rule 13e-1, OMB Control No. 3235-0305, SEC File No. 270-255.

Notice is hereby given that, pursuant to the Paperwork Reduction Act of 1995 (44 U.S.C. 3501 et seq.) the Securities and Exchange Commission (“Commission”) has submitted to the Office of Management and Budget requests for extension of the previously approved collections of information discussed below.

Rule 12g3-2 (OMB 3235-0119; SEC File No. 270-104) provides an exemption from section 12(g) of the Securities Exchange Act of 1934 for foreign private issuers. Rule 12g3-2 is designed to provide investors in foreign securities with information about such securities and the foreign issuer. All information required by Rule 12g3-2 must be filed with the Commission and made available to the public upon request. It estimated that 1,800 foreign issuers make submissions pursuant to Rule 12g3-2 annually and it takes approximately one burden hour per response for a total annual burden of 1,800 hours. It is estimated that 100 percent of the burden is prepared by the filer.

Rules 7a-15 through 7a-37 (OMB 3235-0132; SEC File No. 270-115) set forth the general requirements relating to applications, statements and reports that must be filed under the Trust Indenture Act of 1939 by issuers and trustees qualifying indentures for offerings of debt securities. The respondents are persons and entities subject to the Trust Indenture Act requirements. Rules 7a-15 through 7a-37 are disclosure guidelines and do not directly result in any collection of information. The Rules are assigned only one burden hour for administrative convenience.

Rule 13e-1 (OMB 3235-0305; SEC File No. 270-255) makes it unlawful for an issuer who has received notice that it is the subject of a tender offer made under 14(d)(1) of the Act and which has commenced under Rule 14d-2 to purchase any of its equity securities during the tender offer unless it first files a statement with the Commission containing information required by the Rule. This rule is in keeping with the Commission's statutory responsibility to prescribe rules and regulations that are necessary for the protection of investors. Public companies are the respondents. Rule 13e-1 submissions take approximately 10 burden hours to prepare and are filed by 20 respondents. It is estimated that 25 percent of 200 total burden hours (50 hours) is prepared by the company. The remaining 75 percent of the total burden is attributed to outside cost.

An agency may not conduct or sponsor, and a person is not required to respond to, a collection of information unless it displays a currently valid control number.

Written comments regarding the above information should be directed to the following persons: (i) Desk Officer for the Securities and Exchange Commission, Office of Information and Regulatory Affairs, Office of Management and Budget, Room 10202, New Executive Office Building, Washington, DC 20503; and (ii) Kenneth A. Fogash, Acting Associate Executive Director/CIO, Office of Information Technology, Securities and Exchange Commission, 450 Fifth Street, NW., Washington, DC 20549. Comments must be submitted to OMB within 30 days of this notice.

Dated: January 5, 2004.
Jill M. Peterson,
Assistant Secretary.

[FR Doc. 04-607 Filed 1-12-04; 8:45 am]

BILLING CODE 8010-01-P